DEPARTMENT OF COMMERCE

International Trade Administration

[A-580-809]

Circular Welded Non-Alloy Steel Pipe from the Republic of Korea: Final Results of the Antidumping Duty Administrative Review

AGENCY: Import Administration, International Trade Administration, Department of Commerce.

SUMMARY: On December 8, 2009, the Department of Commerce (the “Department”) published the preliminary results of the administrative review of the antidumping duty order on circular welded non-alloy steel pipe (“CWP”) from the Republic of Korea (“Korea”), covering the period November 1, 2007, through October 31, 2008. See Circular Welded Non-Alloy Steel Pipe from the Republic of Korea: Preliminary Results and Rescission in Part of the Antidumping Duty Administrative Review, 74 FR 64670 (December 8, 2009) (“Preliminary Results”). This review covers six producers/exporters of the subject merchandise to the United States: SeAH Steel Corporation (“SeAH”), Dongbu Steel Co., Ltd., Korea Iron & Steel Co., Ltd., Union Steel Co., Ltd., Nexteel Co. Ltd., and A-JU Besteel Co., Ltd. SeAH is the only mandatory respondent. We gave the interested parties an opportunity to comment on the Preliminary Results. Based on our analysis of the comments received and the results of verification, we have made changes to the margin calculation. The final weighted-average dumping margins for the reviewed firms are listed below in the section entitled “Final Results of Review.”

EFFECTIVE DATE: June 21, 2010.

FOR FURTHER INFORMATION CONTACT: Alexander Montoro or Nancy Decker, AD/CVD Operations, Office 1, Import Administration, International Trade Administration, U.S. Department of Commerce, 14th Street and Constitution Avenue, N.W., Washington, DC 20230; telephone (202) 482-0238 or (202) 482-0196, respectively.

SUPPLEMENTARY INFORMATION:

Background

Following the Preliminary Results, the Department issued an additional supplemental questionnaire to SeAH on December 11, 2009, and SeAH responded on December 29, 2009.

From January 18 through January 22, 2010, we conducted the home market sales verification of the questionnaire responses of SeAH, and from February 8 through February 10, 2010, we conducted the U.S. sales verification of the questionnaire responses of SeAH at Pusan Pipe America (“PPA”). The Department released its verification reports for SeAH and PPA to interested parties on April 12, 2010.

As explained in the memorandum from the Deputy Assistant Secretary for Import Administration, the Department exercised its discretion to toll deadlines for the duration of the closure of the Federal Government from February 5, through February 12, 2010. Thus, all deadlines in this segment of the proceeding were extended by seven days. The revised deadline for the final results of this administrative review was thus extended to April 14, 2010. See Memorandum to the Record from Ronald Lorentzen, DAS for Import Administration, regarding “Tolling of Administrative Deadlines As a Result of the Government Closure During the Recent Snowstorms,” dated February 12, 2010.

On March 23, 2010, the Department published in the Federal Register an extension of the time limit for the completion of the final results of this review until no later than June 14, 2010, in accordance with section 751(a)(3)(A) of the Tariff Act of 1930, as amended (“ the Act”), and 19 CFR 351.213(h)(2). See Circular Welded Non-Alloy Steel Pipe from the Republic of Korea: Extension of Time Limit for the Final Results and Rescission in Part of the Antidumping Duty Administrative Review, 75 FR 13729 (March 23, 2010).

We invited parties to comment on the Preliminary Results. We received case briefs on April 26, 2010, from SeAH and the petitioners, United States Steel Corporation (“U.S. Steel”), Allied Tube and Conduit Corporation and TMK IPSCO Tubulars. On May 3, 2010, SeAH and U.S. Steel submitted rebuttal briefs. None of the parties requested a hearing.

Scope of the Order

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this review.

All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube From Brazil, the Republic of Korea, Mexico, and Venezuela, 61 FR 11608 (March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule (“HTS”) subheadings: 7306.30.10.00, 7306.30.50.25, 7306.30.50.32, 7306.30.50.40, 7306.30.50.55, 7306.30.50.85, and 7306.30.50.90. Although the HTS subheadings are provided for convenience and customs purposes, our written description of the scope of this proceeding is dispositive.

Analysis of Comments Received

All issues raised in the case briefs are addressed in the “Issues and Decision Memorandum for the 2007-2008 Administrative Review of Circular Welded Non-Alloy Steel Pipe from the Republic of Korea” (“Issues and Decision Memorandum”), which is dated concurrently with and hereby adopted by this notice. A list of the issues which parties raised and to which we responded in the Issues and Decision Memorandum is attached to this notice as an Appendix. The Issues and Decision Memorandum is a public document which is on file in the Central Records Unit in room 1117 in the main Department building, and is accessible on the web at http://www.ia.ita.doc.gov/frn. The paper copy and electronic version of the memorandum are identical in content.

Changes Since the Preliminary Results

Based on our analysis of the comments received, we made the following changes in calculating dumping margins: (1) we revised the calculations from the Preliminary Results to account for minor corrections that SeAH submitted during the home market and constructed export price (“CEP”) sales verifications; (2) we included SeAH's allowance for doubtful accounts in the indirect selling expense calculation; (3) we reclassified the reported grades of certain pipes for product comparison purposes; (4) we treated all of SeAH's letter of credit charges related to its U.S. sales as direct selling expenses; (5) we corrected the margin program by calculating SeAH's dumping margin by comparing monthly weighted-average normal values to individual U.S. prices; and (6) excluded inventory valuation losses from SeAH's cost calculations. For further details, see “Cost of Production and Constructed Value Calculation Adjustments for the Final Results - SeAH Steel Corporation,” and “Final Results Calculation Memorandum for SeAH Steel Corporation,” and see also Issues and Decision Memorandum, all dated June 14, 2010.

Cost of Production

Consistent with the Preliminary Results, we disregarded home market sales by SeAH that failed the cost-of-production test.

Final Results of the Review

We determine that a weighted-average dumping margin exists for the mandatory respondent, SeAH, for the period November 1, 2007, through October 31, 2008. Respondents other than mandatory respondents normally receive the weighted-average of the margins calculated for those companies selected for individual review (i.e., mandatory respondents), excluding de minimis margins or margins based entirely on adverse facts available. In this case, respondents other than SeAH are receiving SeAH's calculated margin as SeAH is the only remaining mandatory respondent.

Manufacturer/exporter | Weighted-average margin percent
SeAH Steel Corporation | 3.28
Dongbu Steel Co., Ltd. | 3.28
Korea Iron & Steel Co., Ltd. | 3.28
Union Steel Co., Ltd. | 3.28
Nexteel Co., Ltd. | 3.28
A-JU Besteel Co., Ltd. | 3.28

Public Comment

The Department will disclose calculations performed within five days of the date of publication of this notice to the parties to this proceeding in accordance with 19 CFR 351.224(b).

Assessment Rates

The Department shall determine, and U.S. Customs and Border Protection (“CBP”) shall assess, antidumping duties on all appropriate entries, in accordance with 19 CFR 351.212(b)(1). The Department will issue appropriate appraisement instructions for the companies subject to this review directly to CBP 15 days after the date of publication of these final results of this review.

For SeAH, we will calculate importer-specific ad valorem duty assessment rates based on the ratio of the total amount of antidumping duties calculated for the examined sales to the total entered value of the sales, as reported by SeAH. See 19 CFR 351.212(b)(1). For the companies which were not selected for individual review, we will use SeAH's cash deposit rate as the assessment rate. Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003) (“Assessment Policy Notice”). This clarification will apply to entries of subject merchandise during the period of review (“POR”) produced by companies included in these final results of review for which the reviewed companies did not know that the merchandise they sold to the intermediary (e.g., a reseller, trading company, or exporter) was destined for the United States. In such instances, we will instruct CBP to liquidate unreviewed entries at the all-others rate if there is no rate for the intermediary involved in the transaction. See Assessment Policy Notice for a full discussion of this clarification.

Cash Deposit Requirements

The following deposit rates will be effective upon publication of the final results of this administrative review for all shipments of CWP from Korea entered, or withdrawn from warehouse, for consumption on or after the publication date, as provided by section 751(a)(2)(C) of the Act: (1) The cash deposit rates for the companies listed above will be the rates established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in this review, a prior review, or the original less-than-fair-value (“LTFV”) investigation, but the manufacturer is, the cash deposit rate will be the rate established for the most recent final results for the manufacturer of the merchandise; and (4) if neither the exporter nor the manufacturer is a firm covered in this or any previous review conducted by the Department, the cash deposit rate will be 4.80 percent, the “all others” rate established in the LTFV investigation. See Notice of Antidumping Duty Orders: Certain Circular Welded Non-Alloy Steel Pipe from Brazil, the Republic of Korea, Mexico, and Venezuela, and Amendment to Final Determination of Sales at Less Than Fair Value: Certain Circular Welded Non-Alloy Steel Pipe from Korea, 57 FR 49453 (November 2, 1992). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: June 14, 2010.
Paul Piquado,
Acting Deputy Assistant Secretary for Import Administration.

Appendix Issues in Decision Memorandum

Comment 1: Application of Quarterly Costs

Comment 2: Inventory Valuation Loss

Comment 3: Application of the Major Input Rule

Comment 4: Allowance for Doubtful Accounts/Bad Debts

Comment 5: Ordinary Pipe versus Pressure Pipe Classification

Comment 6: Bank Charges Incurred: Letter of Credit Charges

Comment 7: Recalculating SeAH's Dumping Margin by Comparing Monthly Weighted-Average Normal Values to Individual U.S. Prices

Comment 8: Zeroing-Out Negative Dumping Margins

[FR Doc. 2010-14945 Filed 6-18-10; 8:45 am]

BILLING CODE 3510-DS-S